DEPARTMENT OF EDUCATION

National Assessment Governing Board; Meeting

AGENCY: National Assessment Governing Board; Education.

ACTION: Notice of Open Meeting and Partially Closed Meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira.Mwalimu@ed.gov no later than February 27, 2004. We will attempt to meet requests after this date, but cannot guarantee availability of the requested accommodation. The meeting site is accessible to individuals with disabilities.

DATES: March 4-March 6, 2004.

Times:

March 4

Committee Meetings:

Assessment Development Committee: Closed Session—12:30 p.m. to 4 p.m.;

Executive Committee: Open Session—4:30 p.m. to 5:00 p.m.; Closed Session—5:00 p.m. to 6 p.m.

March 5

Full Board: Open Session—8 a.m. to 10:30 a.m.

Committee Meetings:

Assessment Development Committee: Open Session—10:30 a.m. to 12:30 p.m.;

Committee on Standards, Design, and Methodology: Open Session—10:30 a.m. to 12:30 p.m.;

Reporting and Dissemination Committee: Open Session—10:30 a.m. to 12:30 p.m.;

Full Board: Closed Session—12:30 p.m. to 1:30 p.m.; Open Session—1:30 p.m. to 4:30 p.m.

March 6

Nominations Committee: Closed Session—7:45 a.m. to 8:45 a.m.

Full Board: Open Session—9 a.m. to 12 p.m.

Location: Westin Philadelphia, 99 S. 17th Street, Philadelphia, PA 19103.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

On March 4, the Assessment Development Committee will meet in closed session from 12:30 p.m. to 4 p.m. to review secure test items for the National Assessment of Educational Progress (NAEP) 12th Grade 2005 Economics Pilot Test. The meeting must be conducted in closed session as disclosure of proposed test items from the NAEP 2005 Economics Pilot Test would significantly impede implementation of the NAEP program, and is therefore protected by exemption 9(B) of section 552b(c) of Title 5 U.S.C.

The Executive Committee will meet in open session on March 4 from 4:30 p.m. to 5:00 p.m. The committee will then meet in closed session from 5:00 p.m. to 6 p.m. to discuss independent cost estimates for contracts related to the National Assessment of Educational Progress (NAEP). This part of the meeting must be conducted in closed session because public disclosure of this information would likely have an adverse financial effect on the NAEP program. The discussion of this information would be likely to significantly impede implementation of a proposed agency action if conducted in open session. Such matters are protected by exemption 9(B) of section 552b(c) of Title 5 U.S.C.

On March 5, the full Board will meet in open session from 8:00 a.m. to 10:30 a.m. The Board will approve the agenda, hear the Executive Director's report; receive an update on the work of the National Center for Education Statistics (NCES) from the Commissioner of NCES, Robert Lerner; and receive a final report of the NAEP 12th Grade Commission.

From 10:30 a.m. to 12:30 p.m. on March 5, the Board's standing committees—the Assessment Development Committee; the Committee on Standards, Design, and Methodology; and the Reporting and Dissemination Committee—will meet in open session.

The full Board will meet in closed session on March 5, 2004, from 12:30 p.m. to 1:30 p.m. to receive reports on the 1990-2000 High School Transcript Study and a Special Study on Charter Schools. This part of the meeting must be conducted in closed session because the results of these two studies are under development and have not been released to the public. Premature disclosure of the information would significantly frustrate implementation of a proposed agency action if conducted in open session. Such matters are protected by exemption 9(B) of section 552b(c) of Title 5 U.S.C.

The full Board will meet in open session on March 5 from 1:30 p.m.-4:30 p.m. At 1:30 p.m., the Board will provide input and discuss the report of the NAEP 12th Grade Commission. This will be followed by a report to the Board from the External Review Panel on the 2009 NAEP Reading Framework Project from 3:15 p.m. to 4:30 p.m., after which the March 5 session of the Board meeting will adjourn.

On March 6, the Nominations Committee will meet in closed session from 7:45 a.m. to 8:45 a.m. to review nominations for Board membership. This discussion pertains solely to internal personnel rules and practices of an agency and will disclose information of a personal nature where disclosure would constitute an unwarranted invasion of personal privacy. As such, the discussions are protected by exemptions 2 and 6 of section 552b(c) of Title 5 U.S.C.

Thereafter, the full Board will meet in open session from 9 a.m. to 12 p.m. The Board will discuss the Draft Reading Framework from 9 a.m. to 10:30 a.m. Board actions on policies and Committee reports are scheduled to take place between 10:30 a.m. and 12 p.m., when the March 6, 2004 session of the Board meeting will adjourn.

A final agenda of the March 4-6, 2004 Board meeting can be accessed after February 23, 2004 at http://www.nagb.org. Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time.

Dated: January 29, 2004.
Charles E. Smith,
Executive Director, National Assessment Governing Board.

[FR Doc. 04-2096 Filed 2-2-04; 8:45 am]

BILLING CODE 4000-01-M